ENVIRONMENTAL PROTECTION AGENCY

[ER-FRL-8591-9]

Environmental Impacts Statements; Notice of Availability

Responsible Agency: Office of Federal Activities, General Information, (202) 564-1399 or http://www.epa.gov/compliance/nepa/

Weekly receipt of Environmental Impact Statements

Filed 03/23/2009 through 03/27/2009

Pursuant to 40 CFR 1506.9.

EIS No. 20090088, Draft EIS, BLM, UT, Greens Hollow Coal Lease Tract Project, Proposed Federal Coal Leasing and Subsequent Underground Coal Mining, Funding and Lease Application, Fishlake and Manti-La Sal National Forest, Sanpete and Sevier Counties, UT, Comment Period Ends: 05/18/2009, Contact: Steve Rigby, 435-636-3604.

EIS No. 20090089, Final EIS, AFS, AZ, Warm Fire Recovery Project, Removal of Fire-Killed Trees Reforestation, Fuel Reduction and Road Reconstruction of Wildland Fire Burn Portion, Coconino County, AZ, Wait Period Ends: 05/04/2009, Contact: Lois Pfeffer, 559-359-7023.

EIS No. 20090090, Final EIS, FHW, MI, Blue Water Bridge Plaza Study and Improvements to the I-94/1-69 Corridor, To Provide Safe, Efficient and Secure Movement of People and Goods across the Canadian-U.S. Border, Port Huron Area, St. Clair County, MI, Wait Period Ends: 05/04/2009, Contact: Ryan Rizzo, 517-702-1833.

EIS No. 20090091, Draft EIS, FRC, VA, Smith Mountain Pumped Storage Project (FERC No. 2210-169). Application for Hydropower License To Continue Operating the 636-megawatt Pumped Storage Project, Roanoke River, Bedford, Campbell, Franklin and Pittsylvania Counties, VA, Comment Period Ends: 05/18/2009, Contact: Patricia Schaub, 1-866-208-3372.

EIS No. 20090092, Draft EIS, FHW, MO, East Columbia Transportation Project, To Improvements the Transportation Network in Eastern Columbia/Bounty County by: (1) Extending Route 740 from its Terminus at US-63, along a new Alignment, to I-70 at the existing St. Charles road interchange, (2) Improving existing Broadway (Route WW) to Oliver Road and (3) Extending Ballenger Lane, from Route 740 to Clark Lane, City of Columbia, Bounty County, MO, Comment Period Ends: 05/18/2009, Contact: Peggy Casey, 573-636-7104.

EIS No. 20090093, Final EIS, FHW, IA, I-29 Improvements in Sioux City, Construction from Burlington Northern Santa Fe Rail Road (BNSF) Bridge over the Missouri River to Existing Hamilton Boulevard Interchange, Woodbury County, IA, Wait Period Ends: 05/04/2009, Contact: Lubin Quinones, 515-233-7300.

EIS No. 20090094, Draft EIS, UAF, HI, Fort Kamehameha Historic District Buildings and Structures Proposes to Dispose of their Obligation of Continuing Management and Maintenance, Hickham Air Force Base (AFB), HI, Comment Period Ends: 05/18/2009, Contact: Tiffany Patrick, 808-449-3197.

EIS No. 20090095, Final EIS, NRC, PA, Generic—License Renewal of Nuclear Plants, Supplement 35 to NUREG-1437, Regarding Susquehanna Steam Electric Station, Units 1 and 2, Issuing Nuclear Power Plant Operating Licenses for a 20-Year Period, PA, Wait Period Ends: 05/04/2009, Contact: Andrew Stuyvenberg, 301-415-4006.

EIS No. 20090096, Final Supplement, COE, LA, Inner Harbor Navigation Canal (IHNC) Lock Replacement Project, Proposal for Relieving Navigation Traffic Congestion Associated with IHNC Lock, Located between the St. Claude Avenue and North Claibone Avenue Bridge, Orleans, LA, Wait Period Ends: 05/04/2009, Contact: Richard Boe, 504-862-1505.

Amended Notices

EIS No. 20090056, Third Draft Supplement, TPT, CA, Presidio Trust Management Plan (PTMP), Updated Information on the Preferred Alternative for the Main Post District of the Presidio of San Francisco, Implementation, City and County of San Francisco, CA, Comment Period Ends: 04/27/2009, Contact: John Pelka, 415-561-4183. Revision to FR Notice Published 03/06/2009: Extending Comment Period from 04/20/2009 to 04/27/2009.

EIS No. 20090067, Draft Supplement, FHW, TX, Trinity Parkway Project, New and Additional Information, Construction of a Six-Lane Controlled Access Toll Facility from IH-35 E/TX-183 to US-175/TX-310, U.S. Army COE Section 10 and 404 Permits, Dallas County, TX, Comment Period Ends: 05/15/2009, Contact: Salvador Deocampo, 512-536-5950. Revision to FR Notice Published 03/20/2009: Extending Comment Period from 05/04/2009 to 05/15/2009.

EIS No. 20090053, Final Supplement, COE, MS, Gulfport Harbor Navigation Channel Project, To Evaluate Proposed Construction of Authorized Improvements to the Gulfport Harbor, Harrison County, MS, Wait Period Ends: 05/04/2009. Contract: Jennifer Jacobson, 251-690-2724. Revision to FR Notice Published 03/06/2009: Extending Wait Period from 04/06/2009 to 05/04/2009, Due to an Omission in Appendix D.

Dated: March 31, 2009.
Robert W. Hargrove,
Director, NEPA Compliance Division, Office of Federal Activities.

[FR Doc. E9-7516 Filed 4-2-09; 8:45 am]

BILLING CODE 6560-50-P